COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products and a service previously furnished by such agencies.

DATES: Comments must be received on or before: May 17, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSNs-Product Names:

8920-01-E62-6404-Rice, Long Grain, Parboiled, White, 4/10 lb. Bags

8920-01-E62-6405-Rice, Long Grain, Parboiled, Brown, 4/10 lb. Bags

Mandatory Source of Supply: VisionCorps, Lancaster, PA

Contracting Activity: DEFENSE LOGISTICS AGENCY, DLA TROOP SUPPORT

Deletions

The following products and service are proposed for deletion from the Procurement List:

Products

NSNs—Product Names:

MR 407—Bag, Shopping Tote, Laminated, Large, “Live Well”

MR 436—Laminated Bag, Small Holiday Fun

MR 437—Laminated Bag, Small Rein Deer

Mandatory Source of Supply: Industries for the Blind and Visually Impaired, Inc., West Allis, WI

Contracting Activity: Military Resale-Defense Commissary Agency

Service

Service Type: Janitorial/Custodial

Mandatory for: NISE: East Building, North Charleston, SC

Mandatory Source of Supply: Palmetto Goodwill Services, North Charleston, SC

Contracting Activity: PUBLIC BUILDINGS SERVICE, ACQUISITION DIVISION/SERVICES BRANCH

Michael R. Jurkowski,
Deputy Director, Business & PL Operations.

[FR Doc. 2020-08116 Filed 4-16-20; 8:45 am]

BILLING CODE 6353-01-P